DEPARTMENT OF HOMELAND SECURITY

Transportation Security Administration

[Docket No. TSA-2006-26514]

Revision of Agency Information Collection Activity Under OMB Review: Rail Transportation Security

AGENCY: Transportation Security Administration, DHS.

ACTION: 30-Day notice.

SUMMARY: This notice announces that the Transportation Security Administration (TSA) has forwarded the Information Collection Request (ICR), Office of Management and Budget (OMB) control number 1652-0051, abstracted below to OMB for review and approval of a revision of the currently approved collection under the Paperwork Reduction Act (PRA). The ICR describes the nature of the information collection and its expected burden. The collection involves the submission of contact information of rail security coordinators (RSCs) and alternate RSCs from certain freight rail and passenger rail entities; reporting of significant security concerns, to include a new electronic reporting pilot option, in addition to existing telephonic reporting; documenting the transfer of custody and control of certain hazardous materials rail cars; and providing location and shipping information for certain hazardous materials rail cars.

DATES: Send your comments by September 14, 2018. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to dhsdeskofficer@omb.eop.gov.

FOR FURTHER INFORMATION CONTACT: Christina A. Walsh, TSA PRA Officer, Information Technology (IT), TSA-11, Transportation Security Administration, 601 South 12th Street, Arlington, VA 20598-6011; telephone (571) 227-2062; email TSAPRA@tsa.dhs.gov.

SUPPLEMENTARY INFORMATION: TSA published a Federal Register notice, with a 60-day comment period soliciting comments, of the following collection of information on March 9, 2018, 83 FR 10511.

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Consistent with the requirements of Executive Order (E.O.) 13771, Reducing Regulation and Controlling Regulatory Costs, and E.O. 13777, Enforcing the Regulatory Reform Agenda, TSA is also requesting comments on the extent to which this request for information could be modified to reduce the burden on respondents.

Information Collection Requirement

Title: Rail Transportation Security.

Type of Request: Revision of a currently approved collection.

OMB Control Number: 1652-0051.

Forms(s): NA.

Affected Public: Rail and shippers/receivers of certain hazardous materials.

Abstract: TSA requires freight railroad carriers and certain facilities handling specified categories and quantities of hazardous materials be able to report location and shipping information to TSA upon request. These regulated carriers and facilities must also implement chain of custody and control requirements to ensure a positive and secure exchange of the specified categories and quantities of hazardous materials listed in 49 CFR 1580.100(b), and make the reports available to TSA upon request. TSA further collects information from regulated parties on Rail Security Coordinators and significant security concerns telephonically. TSA is revising the collection to introduce an electronic reporting pilot option for significant security concerns.

Number of Respondents: 1760.

Estimated Annual Burden Hours: An estimated 112,764 hours annually.

Dated: August 9, 2018.
Christina A. Walsh,
TSA Paperwork Reduction Act Officer, Information Technology.

[FR Doc. 2018-17551 Filed 8-14-18; 8:45 am]

BILLING CODE 9110-05-P